DEPARTMENT OF EDUCATION

National Advisory Committee on Institutional Quality and Integrity (National Advisory Committee); Meeting

AGENCY: National Advisory Committee on Institutional Quality and Integrity, Department of Education

What Is the Purpose of This Notice?

The purpose of this notice is to announce the public meeting of the National Advisory Committee and invite third-party oral presentations before the Committee. This notice also presents the proposed agenda and informs the public of its opportunity to attend this meeting. The notice of this meeting is required under section 10(a)(2) of the Federal Advisory Committee Act.

When and Where Will the Meeting Take Place?

We will hold the public meeting on May 24 and 25, 2000 from 10:00 a.m. until 5:30 p.m. at the Ritz Carlton Hotel at Pentagon City, 1250 South Hayes Street, Arlington, Virginia 22202. You may call the Hotel on (703) 415-5000 to inquire about rooms.

What Access Does the Hotel Provide for Individuals With Disabilities?

The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Who Is the Contact Person for the Meeting?

Please contact Ms. Bonnie LeBold, who is the Executive Director of the National Advisory Committee on Institutional Quality and Integrity, if you have questions about the meeting. You may contact her at the U.S. Department of Education, Room 7007—MS 7592, 1990 K Street NW, Washington, DC 20006, telephone: (202) 219-7009, fax: (202) 219-7008. Individuals who use a telecommunications device for the deaf (TDD) may call the Federal Information Relay Service at 1-800-877-8339.

What Is the Authority for the National Advisory Committee?

The National Advisory Committee on Institutional Quality and Integrity is established under Section 114 of the Higher Education Act (HEA) as amended, 20 U.S.C. 1011.

What are the Functions of the National Advisory Committee?

The Committee advises the Secretary of Education about:

• The establishment and enforcement of the criteria for recognition of accrediting agencies or associations under subpart 2 of part H of Title IV, HEA.

• The recognition of specific accrediting agencies or associations.

• The preparation and publication of the list of nationally recognized accrediting agencies and associations.

• The eligibility and certification process for institutions of higher education under Title IV, HEA.

• The development of standards and criteria for specific categories of vocational training institutions and institutions of higher education for which there are no recognized accrediting agencies, associations, or State agencies in order to establish the interim eligibility of those institutions to participate in Federally funded programs.

• The relationship between: (1) Accreditation of institutions of higher education and the certification and eligibility of such institutions, and (2) State licensing responsibilities with respect to such institutions.

• Any other advisory functions relating to accreditation and institutional eligibility that the Secretary may prescribe.

What Items Will be on the Agenda for Discussion at the Meeting?

Agenda topics will include an update on the Title IV Distance Education Demonstration Program, a panel discussion by Federal and higher education agency representatives on transfer of credit issues, a briefing on ethics requirements, and the review of agencies that have submitted petitions for renewal of recognition or interim reports.

What Agencies Will the Advisory Committee Review at the Meeting?

The Advisory Committee will review the following agencies during its May 24-25, 2000 meeting.

Nationally Recognized Accrediting Agencies

Interim Reports (An interim report is a follow-up report on an accrediting agency's compliance with specific criteria for recognition that was requested by the Secretary when the Secretary granted renewed recognition to the agency.)

1. American Academy for Liberal Education.

2. Association of Advanced Rabbinical and Talmudic Schools, Accreditation Commission.

3. Accrediting Bureau of Health Education Schools.

4. American Veterinary Medical Association, Council on Education.

5. The Council on Chiropractic Education, Commission on Accreditation.

6. Council on Education for Public Health.

7. National Environmental Health Sciences and Protection Accreditation Council.

8. National League for Nursing Accrediting Commission.

State Agency Recognized for the Approval of Public Postsecondary Vocational Education

Petition for Renewal of Recognition

1. Puerto Rico Human Resources and Occupational Development Council.

Interim Report

1. Oklahoma State Board of Vocational and Technical Education.

2. Utah State Board for Applied Technology Education.

State Agencies Recognized for the Approval of Nurse Education

Petition for Renewal of Recognition

1. Montana State Board of Nursing

Interim Report

1. Maryland Board of Nursing

Who Can Make Third-Party Oral Presentations at this Meeting?

We invite you to make a third-party oral presentation before the National Advisory Committee concerning the recognition of any agency listed above.

How Do I Request to Make an Oral Presentation?

You must submit a written request to make an oral presentation concerning an agency listed above to the contact person listed in this notice. The request must be received no later than close of business on May 3, 2000. Your request should include:

—The names of all persons seeking an appearance,

—The organization they represent, and

—A brief summary of the principal points to be made during the oral presentation.

This notice is not a call for third-party written comments. However, if you wish to provide the Advisory Committee with a brief document (no more than 6 pages maximum, including any attachments) illustrating the main points of your oral testimony, please enclose one original and 25 copies of the document with your written request to make an oral presentation. Please do not distribute written materials at the meeting or send materials directly to Committee members.

Materials received by the deadline (May 3, 2000) and in accordance with these instructions become part of the official record and are considered by the Committee in its deliberations. Department staff will not distribute documents received after the May 3, 2000 deadline to the Advisory Committee.

If I Cannot Attend the Meeting, Can I Submit Written Comments Regarding an Accrediting Agency in Lieu of Making an Oral Presentation?

This notice requests third-party oral testimony, not written comment. A request for written comments on agencies that are being reviewed during this meeting was published in the Federal Register on January 18, 2000. The Advisory Committee will receive and consider only written comments submitted by the deadlines specified in that Federal Register notice.

How Do I Request to Present Comments Regarding General Issues Rather Than Specific Accrediting Agencies?

At the conclusion of the meeting, the Committee, at its discretion, may invite attendees to address the Committee briefly on issues pertaining to the functions of the Committee, which are listed earlier in this notice. If you are interested in making such comments, you should inform Ms. LeBold before the meeting.

How May I Obtain Access to the Records of the Meeting?

We will record the meeting and make a transcript available for public inspection at the U.S. Department of Education, 1990 K St. NW, Washington, DC, telephone (202) 219-7009, between the hours of 9 a.m. and 4:30 p.m., Monday through Friday, except Federal holidays. It is preferred that an appointment be made in advance of such inspection.

What Agencies Will Be Postponed for Review until the December 2000 Meeting?

The agencies listed below, which were originally scheduled for review during the Committee's May 2000 meeting, will be postponed for review until the Committee's December 2000 meeting. Any third-party written comments regarding these agencies that were received by March 3, 2000, in accordance with the Federal Register notice published on January 18, 2000, will become part of the official record and will be considered by the Committee in its deliberations at the December 2000 meeting. There will be another opportunity to provide written comments on these agencies this summer; a Federal Register notice requesting comments on all agencies scheduled for review at the December 2000 meeting will be published in June or July 2000.

Nationally Recognized Accrediting Agencies

Petition for Initial Recognition

1. Midwifery Education Accreditation Commission.

Petitions for Renewal of Recognition

1. American Association for Marriage and Family Therapy, Commission on Accreditation for Marriage and Family Therapy Education.

2. American Bar Association, Council of the Section of Legal Education and Admissions to the Bar.

3. Accreditation Commission for Acupuncture and Oriental Medicine.

4. Accrediting Commission on Education for Health Services Administration.

5. American Osteopathic Association, Bureau of Professional Education.

6. American Podiatric Medical Association, Council on Podiatric Medical Education.

7. National Council for Accreditation of Teacher Education.

8. New York State Board of Regents.

Authority: 5 U.S.C. Appendix 2.

Dated: March 29, 2000.
A. Lee Fritschler,
Assistant Secretary for Postsecondary Education.

[FR Doc. 00-8218 Filed 4-3-00; 8:45 am]

BILLING CODE 4000-01-U